DEPARTMENT OF JUSTICE

[AAG/A Order No. 244-2001]

Privacy Act of 1974; System of Records

Pursuant to the provisions of the Privacy Act of 1974 (5 U.S.C. 552a), the Immigration and Naturalization Service (INS), Department of Justice, proposes to modify the following systems of records:

1. The Asset Management Information System (AMIS), JUSTICE/INS-004, April 27, 1998, (63 FR 20651);

2. INS Bond Management Information System (BMIS), JUSTICE/INS-008, December 18, 1998, (63 FR 70159);

3. INS Password Issuance and Control System (PICS), JUSTICE/INS-011, March 2, 1989, (54 FR 8838);

4. INS Port of Entry Office Management Support System (POMS), JUSTICE/INS-015, June 14, 1990, (55 FR 24167);

5. INS Global Enrollment System (GES), JUSTICE/INS-017, March 13, 1997, (62 FR 11919);

6. INS Attorney/Representatives Complaint/Petition Files, JUSTICE/INS-022, December 16, 1999, (64 FR 70288);

7. INS Law Enforcement Support Center Database, JUSTICE/INS-023, May 14, 1997, (62 FR 26555);

8. FD-258 Fingerprint Tracking System, JUSTICE/INS-024, July 31, 2000, (65 FR 46741); and

9. Hiring Tracking System (HITS), JUSTICE/INS-026, December 16, 1999, (64 FR 70291).

The INS has modified the above noted systems of records to include a new routine use that allows disclosure to contractors working on behalf of INS to have access to necessary information to assist INS with its operations.

In accordance with 5 U.S.C. 552a(e)(4) and (11), the public is given a 30-day period in which to comment on the routine use disclosure. The Office of Management and Budget (OMB), which has oversight responsibility under the Privacy Act, requires a 40-day period in which to conclude its review of the system. Therefore, please submit any comments by October 9, 2001. The public, OMB, and the Congress are invited to submit any comments to Mary E. Cahill, Management and Planning Staff, Justice Management Division, United States Department of Justice, Washington, DC 20530-0001 (Room 1400, National Place Building).

A description of the modification to the INS” systems of records is provided below. In accordance with 5 U.S.C. 552a(r), the Department has provided a report to OMB and the Congress.

Dated: August 21, 2001.
Janis A. Sposato,
Acting Assistant Attorney General for Administration.

System Names:

JUSTICE/INS-004, The Asset Management Information System (AMIS)

JUSTICE/INS-008, INS Bond Management Information System (BMIS)

JUSTICE/INS-011, INS Password Issuance and Control System (PICS)

JUSTICE/INS-015, INS Port of Entry Office Management Support System (POMS)

JUSTICE/INS-017, INS Global Enrollment System (GES)

JUSTICE/INS-022, INS Attorney/Representatives Complaint/Petition Files

JUSTICE/INS-023, INS Law Enforcement Support Center Database

JUSTICE/INS-024, FD-258 Fingerprint Tracking System

JUSTICE/INS-026, Hiring Tracking System (HITS)

* * * * *

Routine Uses of Records Maintained in the System, Including Categories of Users and the Purposes of Such Uses:

To contractors, grantees, experts, consultants, students, and others performing or working on a contract, service, grant, cooperative agreement, or other assignment for the Federal Government, when necessary to accomplish an agency function related to this system of records.

* * * * *

[FR Doc. 01-22450 Filed 9-6-01; 8:45 am]

BILLING CODE 4410-10-P